DEPARTMENT OF HOMELAND SECURITY

Coast Guard

[Docket No. USCG-2017-0464]

Imposition of Conditions of Entry for Certain Vessels Arriving to the United States From the Federated States of Micronesia

AGENCY: Coast Guard, DHS.

ACTION: Notice.

SUMMARY: The Coast Guard announces that it will impose conditions of entry on vessels arriving from the Federated States of Micronesia. Conditions of entry are intended to protect the United States from vessels arriving from countries that have been found to have deficient port anti-terrorism measures in place.

DATES: The policy announced in this notice will become applicable September 5, 2017.

FOR FURTHER INFORMATION CONTACT: For information about this document call or email Juliet Hudson, International Port Security Evaluation Division, United States Coast Guard, telephone 202-372-1173, Juliet.J.Hudson@uscg.mil.

SUPPLEMENTARY INFORMATION:

Discussion

The authority for this notice is 5 U.S.C. 552(a) (“Administrative Procedure Act”), 46 U.S.C. 70110 (“Maritime Transportation Security Act”), and Department of Homeland Security Delegation No. 0170.1(II)(97.f). As delegated, section 70110(a) authorizes the Coast Guard to impose conditions of entry on vessels arriving in U.S. waters from ports that the Coast Guard has not found to maintain effective anti-terrorism measures.

On May 3, 2016 the Coast Guard found that ports in the Federated States of Micronesia failed to maintain effective anti-terrorism measures and that the Federated States of Microneisa's designated authority oversight, access control, security monitoring, security training programs, and security plans drills and exercises are all deficient.

On July 7, 2016, as required by 46 U.S.C. 70109, the Federated States of Micronesia was notified of this determination and given recommendations for improving antiterrorism measures and 90 days to respond. To date, we cannot confirm that the Federated States of Micronesia has corrected the identified deficiencies.

Accordingly, beginning September 5, 2017, the conditions of entry shown in Table 1 will apply to any vessel that visited a port in the Federated States of Micronesia in its last five port calls.

Table 1—Conditions of Entry for Vessels Visiting Ports in the Federated States of Micronesia
No. | Each vessel must:
1 | Implement measures per the vessel's security plan equivalent to Security Level 2 while in a port in the Federated States of Micronesia. As defined in the ISPS Code and incorporated herein, “Security Level 2” refers to the “level for which appropriate additional protective security measures shall be maintained for a period of time as a result of heightened risk of a security incident.”
2 | Ensure that each access point to the vessel is guarded and that the guards have total visibility of the exterior (both landside and waterside) of the vessel while the vessel is in ports in the Federated States of Micronesia.
3 | Guards may be provided by the vessel's crew; however, additional crewmembers should be placed on the vessel if necessary to ensure that limits on maximum hours of work are not exceeded and/or minimum hours of rest are met, or provided by outside security forces approved by the vessel's master and Company Security Officer. As defined in the ISPS Code and incorporated herein, “Company Security Officer” refers to the “person designated by the Company for ensuring that a ship security assessment is carried out; that a ship security plan is developed, submitted for approval, and thereafter implemented and maintained and for liaison with port facility security officers and the ship security officer.”
4 | Attempt to execute a Declaration of Security while in a port in the Federated States of Micronesia.
5 | Log all security actions in the vessel's security records.
6 | Report actions taken to the cognizant Coast Guard Captain of the Port (COTP) prior to arrival into U.S. waters.
7 | In addition, based on the findings of the Coast Guard boarding or examination, the vessel may be required to ensure that each access point to the vessel is guarded by armed, private security guards and that they have total visibility of the exterior (both landside and waterside) of the vessel while in U.S. ports. The number and position of the guards has to be acceptable to the cognizant COTP prior to the vessel's arrival.

The following countries currently do not maintain effective anti-terrorism measures and are therefore subject to conditions of entry: Cambodia, Cameroon, Comoros, Cote d'Ivoire, Equatorial Guinea, the Federated States of Micronesia, the Republic of the Gambia, Guinea-Bissau, Iran, Liberia, Libya, Madagascar, Nauru, Nigeria, Sao Tome and Principe, Syria, Timor-Leste, Venezuela, and Yemen. This list is also available in a policy notice available at https://homeport.uscg.mil under the Maritime Security tab; International Port Security Program (ISPS Code); Port Security Advisory link.

Dated: June 29, 2017.
Charles W. Ray,
Deputy Commandant for Operations.

[FR Doc. 2017-17652 Filed 8-18-17; 8:45 am]

BILLING CODE 9110-04-P